DEPARTMENT OF COMMERCE

National Oceanic and Atmospheric Administration

[I.D. 112205C]

New England Fishery Management Council; Public Meeting

AGENCY: National Marine Fisheries Service (NMFS), National Oceanic and Atmospheric Administration (NOAA), Commerce.

ACTION: Notice; committee meeting.

SUMMARY: The New England Fishery Management Council's (Council) Groundfish Oversight Committee will meet to consider actions affecting New England fisheries in the exclusive economic zone (EEZ).

DATES: The meeting will be held on Monday, December 12, 2005, from 9:30 a.m.-5 p.m.

ADDRESSES: Meeting address: The meeting will be held at the Holiday Inn, One Newbury Street, Route 1, Peabody, MA 01960; telephone: (978) 535-4600.

Council address: New England Fishery Management Council, 50 Water Street, Mill 2, Newburyport, MA 01950.

FOR FURTHER INFORMATION CONTACT: Paul J. Howard, Executive Director, New England Fishery Management Council; telephone: (978)465-0492.

SUPPLEMENTARY INFORMATION: The items of discussion in the committee's agenda are as follows:

Agenda for Monday, December 12, 2005

1. The Committee will continue development of Framework Adjustment 42 (FW 42) to the Northeast Multispecies Fishery Management Plan. FW 42 adjusts management measures in order to continue the rebuilding programs established by Amendment 13. After receiving a report from the Groundfish Advisory Panel, the Committee will further refine the proposed management measures as necessary. They will also discuss the application for formation of a fixed gear sector. Finally, the Committee may begin to develop recommendations on specific measures for the Council's consideration at a future meeting. The Committee may also consider other business.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Authority: 16 U.S.C. 1801 et seq.

Dated: November 22, 2005.
Tracey L. Thompson,
Acting Director, Office of Sustainable Fisheries, National Marine Fisheries Service.

[FR Doc. E5-6553 Filed 11-25-05; 8:45 am]

BILLING CODE 3510-22-S